DEPARTMENT OF COMMERCE

National Oceanic and Atmospheric Administration

RIN 0648-XE39

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a public meeting of the Shrimp Advisory Panel (AP).

DATES: The Shrimp AP meeting is scheduled to begin at 8:30 a.m. on Wednesday, January 9, 2008.

ADDRESSES: The meeting will be held at the Hilton Houston Hobby Airport, 8181 Airport Blvd., Houston, TX 77061.

Council address: Gulf of Mexico Fishery Management Council, 2203 North Lois Avenue, Suite 1100, Tampa, FL 33607.

FOR FURTHER INFORMATION CONTACT: Dr. Richard Leard, Deputy Executive Director; telephone: (813) 348-1630.

SUPPLEMENTARY INFORMATION: The Shrimp AP will receive reports from the National Marine Fisheries Service (NMFS) on the status and health of the shrimp stocks in 2006, as well as a report on the biological and economic aspects of the 2007 Cooperative Shrimp Closure with the state of Texas. The Shrimp AP may make recommendations for a cooperative closure with Texas for 2008. The Shrimp AP will also receive a presentation of the current number of moratorium permits that have been issued by the NMFS and preliminary estimates of offshore shrimping effort in 2007. Finally, the Shrimp AP may discuss and make recommendations regarding a Generic Offshore Aquaculture Amendment being developed by the Council.

The Shrimp AP consists principally of commercial shrimp fishermen, dealers, and association representatives.

Although other non-emergency issues not on the agenda may come before the Shrimp AP for discussion, in accordance with the Magnuson-Stevens Fishery Conservation and Management Act (Magnuson-Stevens Act), those issues may not be the subject of formal action during these meetings. Actions of the Shrimp AP will be restricted to those issues specifically identified in the agenda and any issues arising after publication of this notice that require emergency action under Section 305(c) of the Magnuson-Stevens Act, provided the public has been notified of the Council's intent to take action to address the emergency.

Copies of the agenda can be obtained by calling (813) 348-1630.

Special Accommodations

This meeting is physically accessible to people with disabilities. Requests for sign language interpretation or other auxiliary aids should be directed to Tina Trezza at the Council (see ADDRESSES) at least 5 working days prior to the meeting.

Dated: December 13, 2007.
Tracey L. Thompson,
Acting Director, Office of Sustainable Fisheries, National Marine Fisheries Service.

[FR Doc. E7-24448 Filed 12-17-07; 8:45 am]

BILLING CODE 3510-22-S